DEPARTMENT OF ENERGY

Federal Energy Regulatory Commission

Notice of Application Ready for Environmental Analysis and Solicitation of Comments, Recommendations, Terms and Conditions, and Prescriptions

May 15, 2002.

Take notice that the following hydroelectric application have been filed with the Commission and is available for public inspection.

a. Type of Application: Major Original License.

b. Project No.: 11508-001.

c. Name of the Project: Wolf Lake Hydroelectric Project.

d. Date filed: March 27, 1998.

e. Applicant: Alaska Power & Telephone Company.

f. Location: On the east side of Prince of Wales Island, along Wolf Creek, near Hollis, Alaska. The project would affect about 28 acres of the Tongass National Forest, administered by the U.S. Forest Service.

g. Filed Pursuant to: Federal Power Act, 16 U.S.C. 791 (a)—825(r).

h. Applicant Contact: Robert S. Grimm, President, Alaska Power & Telephone Company, P.O. Box 3222, 191 Otto Street, Port Townsend, WA 98368, (360) 385-1733

i. FERC Contact: Susan O'Brien, E-mail address susan.obrien@ferc.gov, or (202) 219-2840.

j. Deadline for filing comments, recommendations, terms and conditions, and prescriptions: 60 days from the issuance of this notice.

All documents (original and eight copies) should be filed with: Magalie R. Salas, Secretary, Federal Energy Regulatory Commission, 888 First Street, NE, Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's web site (http://www.ferc.gov) under the “e-Filing” link.

j. This application has been accepted, and is ready for environmental analysis at this time.

k. The proposed project would consist of the following features: (1) A screened intake structure 50 feet long by 3 feet high with a 20-foot-wide spillway; (2) a 3.5-acre storage impoundment at elevation 1,088 feet mean sea level; (3) a 6,000-foot-long, 22-inch-diameter steel and high-density polyethylene chloride penstock; (4) a 30-by 40-foot-long prefabricated metal powerhouse along the right bank of Wolf Creek, having a single horizontal twin-jet Pelton turbine with an installed capacity of 2.2 megawatts; (5) a 150-foot-long, 10-foot-wide, by 6-foot-deep tailrace channel; (6) a 12.5-kilovolt, 2.3-mile-long overhead transmission line on wooden poles; (7) a 50-foot-wide by 2.3-mile-long transmission line right-of-way, including an access road; and (8) other appurtenances. The proposed run-of-river project would use natural flows from the 100-acre Wolf Lake and ponds just below the lake to generate 2.2 MW of power to serve various communities on Prince of Wales Island. Water diverted to generate power for this project would bypass about 6,000 feet of Wolf Creek. The project would operate continuously to meet a large portion of the spring, summer, and fall load demand.

l. A copy of the application is on file with the Commission and is available for public inspection. This filing may also be viewed on the web at http://www.ferc.gov using the “RIMS” link—select “Docket #” and follow the instructions (call 202-208-2222 for assistance). A copy is also available for inspection and reproduction at the address in item g above.

m. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

All filings must (1) bear in all capital letters the title “COMMENTS”, “REPLY COMMENTS”, “RECOMMENDATIONS,” “TERMS AND CONDITIONS,” or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

Linwood A. Watson, Jr.,
Deputy Secretary.

[FR Doc. 02-12747 Filed 5-21-02; 8:45 am]

BILLING CODE 6717-01-P